DEPARTMENT OF ENERGY

Federal Energy Regulatory Commission

[Project No. 14795-001]

Shell Energy North America (US), L.P.; Notice of Intent To File License Application, Filing of Pre-Application Document, and Approving Use of the Traditional Licensing Process

a. Type of Filing: Notice of Intent to File License Application and Request to Use the Traditional Licensing Process.

b. Project No.: 14795-001.

c. Date Filed: October 3, 2016.

d. Submitted By: Shell Energy North America (US), L.P.

e. Name of Project: Hydro Battery Pearl Hill Project.

f. Location: On the Columbia River and Rufus Woods Lake, near Bridgeport, Douglas County, Washington. The project would be located on state lands and the lower reservoir and power generation and pumping equipment would be located on Rufus Woods Lake, a reservoir operated by the Army Corps of Engineers.

g. Filed Pursuant to: 18 CFR 5.3 of the Commission's regulations.

h. Potential Applicant Contact: Mr. Brian Johansen, Vice President Power Trading West, Shell Energy North America (US), L.P., 601 W. 1st Ave., Suite 1700, Spokane, Washington 99201; phone: (509) 688-6000.

i. FERC Contact: Ryan Hansen at (202) 502-8074; or email at ryan.hansen@ferc.gov.

j. Shell Energy North America (US), L.P. (Shell Energy) filed its request to use the Traditional Licensing Process on October 3, 2016. Shell Energy provided public notice of its request on October 13, 2016. In a letter dated November 9, 2016, the Director of the Division of Hydropower Licensing approved Shell Energy's request to use the Traditional Licensing Process.

k. With this notice, we are designating Shell Energy as the Commission's non-federal representative for carrying out informal consultation pursuant to section 7 of the Endangered Species Act and section 305(b) of the Magnuson-Stevens Fishery Conservation and Management Act; and consultation pursuant to section 106 of the National Historic Preservation Act.

l. Shell Energy filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

n. Register online at http://www.ferc.gov/docs-filing/esubscription.asp to be notified via email of new filing and issuances related to this or other pending projects. For assistance, contact FERC Online Support.

Dated: November 9, 2016.
Kimberly D. Bose,
Secretary.

[FR Doc. 2016-27619 Filed 11-16-16; 8:45 am]

BILLING CODE 6717-01-P